DEPARTMENT OF THE INTERIOR

Fish and Wildlife Service

Sabine, Cameron Prairie, and Lacassine National Wildlife Refuges

AGENCY: Fish and Wildlife Service, Interior.

ACTION: Notice of intent to prepare comprehensive conservation plans and environmental assessments for Sabine, Cameron Prairie, and Lacassine National Wildlife Refuges in Louisiana.

SUMMARY: This notice advises the public that the Fish and Wildlife Service, Southeast Region, intends to gather information necessary to prepare comprehensive conservation plans and environmental assessments pursuant to the National Environmental Policy Act and its implementing regulations. The Service is furnishing this notice in compliance with the National Wildlife Refuge System Administration Act of 1966, as amended (16 U.S.C. 668dd et seq.), to achieve the following:

(1) Advise other agencies and the public of our intentions, and

(2) Obtain suggestions and information on the scope of issues to include in the environmental documents.

Special mailings, newspaper articles, and other media announcements will inform people of the opportunities for written input throughout the planning process.

DATES: The Service has already begun the planning process by hosting a series of local meetings in Cameron and Calcasieu Parishes during October 2002, to solicit comments. An open house to involve the public will be held on January 16, 2003, at Best Suites of America (Downtown Exit off Interstate 10), 401 Lakeshore Drive, Lake Charles, Louisiana. The public may attend formal presentations at 2 p.m., 4 p.m., or 6 p.m., or may visit any time during the open house to view maps and other displays, consider each refuge purpose and mission statement, visit one-on-one with Service representatives, and give personal suggestions for future management of each refuge. Special mailings, newspaper articles, and announcements will inform the public of times and locations of additional meetings and opportunities for input.

ADDRESSES: Address comments, questions, and requests for more information to the following: Judy McClendon, Natural Resource Planner, Southwest Louisiana Refuges, 1428 Highway 27, Bell City, Louisiana 70630; Telephone 337/598-2216; Fax 337/598-2492; E-Mail judy_mcclendon@fws.gov. Additional information concerning these refuges may be found at the Service's Internet site http://www.fws.gov/.

SUPPLEMENTARY INFORMATION: By Federal law, all lands within the National Wildlife Refuge System are to be managed in accordance with an approved comprehensive conservation plan. The plan guides management decisions and identifies refuge goals, long-range objectives, and strategies for achieving refuge purposes. The planning process will consider many elements including wildlife and habitat management, public recreational activities, and cultural resource protection. Public input into the planning process is essential.

Sabine National Wildlife Refuge, located in Cameron Parish, Louisiana, encompasses 124,511 acres of fresh/intermediate/brackish marsh and is managed for the protection of wintering waterfowl. Cameron Prairie National Wildlife Refuge, located in Cameron Parish, Louisiana, encompasses 9,621 acres of fresh marsh, prairie, and manipulated moist-soil units and provides for nesting, migrating, and wintering waterfowl and their critical habitats. Lacassine National Wildlife Refuge, located in Cameron and Evangeline Parishes, Louisiana, encompasses 34,886 acres and was established to preserve marshlands and to provide habitat for migrating and wintering waterfowl. Lacassine refuge also manages a 3,345-acre wilderness area, a 20,000-acre private lands mini-refuge program for migrating waterfowl in six refuges, and oversees wetland easements in Jefferson Davis Parish.

Review of the draft plans, expected in 2003, will be conducted in accordance with the requirements of the National Environmental Policy Act of 1969, as amended (42 U.S.C. 4321 et seq.), NEPA regulations (40 CFR parts 1500-1508), other appropriate Federal laws and regulations, and Service policies and procedures for compliance with those regulations.

Authority: This notice is published under the authority of the National Wildlife Refuge System Improvement Act of 1997, Public Law 105-57.

Dated: December 3, 2002
J. Mitch King,
Acting Regional Director.

[FR Doc. 03-1070 Filed 1-16-03; 8:45 am]

BILLING CODE 4310-55-M